DEPARTMENT OF AGRICULTURE

Forest Service

Black Hills National Forest, Northern Hills Ranger District, South Dakota and Bearlodge Ranger District, Wyoming—North Zone Range 05 Proposal and Analysis

AGENCY: Forest Service, USDA.

ACTION: Revised notice of intent to prepare an environmental impact statement.

SUMMARY: This project will revise Rangeland Allotment Management Plans (RAMP) for eight allotments comprising about 79,634 acres within two Ranger Districts of the Black Hills National Forest, and analyze continued grazing within the constraints of the Revised Black Hills National Forest Land and Resource Management Plan, as amended (BHNF LRMP). A Notice of Intent to prepare an environmental impact statement for this project was published August 17, 2005 (70 FR 48369). More than six months have elapsed since the projected FEIS date in that original NOI. This revised NOI is being issued to update the project schedule.

DATES: The Notice of Availability of the draft environmental impact statement was published in the Federal Register on July 7, 2006 (71 FR 38641). The final environmental impact statement is expected in September, 2006. No further formal public comment opportunities will be offered on this project.

FOR FURTHER INFORMATION CONTACT: Alice Allen, Project Coordinator, Black Hills National Forest, Hell Canyon Ranger District, at 330 Mt. Rushmore Rd., phone (605) 673-4853.

SUPPLEMENTARY INFORMATION: Purpose and Need for Action: The purpose of the project is to authorize livestock grazing in an environmentally acceptable manner. The EIS will determine current conditions, analyze environmental consequences of grazing management actions on those conditions, and assist the decision maker in selecting management/monitoring strategies consistent with meeting desired conditions in the BHNF LRMP, including Goals 1, 2 and 3. The need for the action is to revise allotment management plans, reverse any existing undesirable conditions, and ensure that authorized uses and associated management activities move them towards desired BHNF LRMP conditions. There is also a need to respond to requests for grazing permits on lands not currently being grazed.

Proposed Action: The Northern Hills and Bearlodge Ranger Districts propose to implement best management practices and activities with adaptive management and monitoring strategies to allow livestock grazing consistent with Forest Plan desired conditions, standards and guidelines. The Proposed Action is Alternative A in the EIS.

Issues: Key issues include impacts of the proposal to soil and water quality; vegetative diversity; wildlife and wildlife habitat; economic efficiency of the proposal; timeframe for achieving desired conditions; and management of the recently acquired Besant Park, Tilson and Gonzales parcels.

Alternatives: Alternative B is similar to Alternative A, but would authorize livestock grazing on three additional recently acquired parcels and add these to adjacent existing allotments. Alternative D, the No Action Alternative, is the No Grazing Alternative and would eliminate any livestock grazing on the project area. Alternative E proposes the use of rest periods to achieve faster recovery of riparian areas. Alternative F would move the area toward desired conditions by means of reduced stocking rates, mandatory use of range riders, or other non-structural adaptive management actions. No new range improvements are proposed. Alternative C, current management, was dismissed from detailed consideration.

Responsible Official

The Responsible Official for the allotments on the Bearlodge Ranger District is Steve Kozel, District Ranger, Black Hills National Forest, Bearlodge Ranger District, 121 S. 21st Street, Sundance, Wyoming 82729. The Responsible Official for the allotments on the Northern Hills Ranger District is the District Ranger, Black Hills National Forest, Northern Hills Ranger District, 2014 N. Main St., Spearfish, South Dakota 57783.

Nature of Decision To Be Made

The decision to be made is whether to continue to permit livestock grazing on all, part, or none of these allotments and, if so, under what terms and conditions to ensure that desired condition objectives are met, or that movement occurs toward those objectives. The Northern Hills District Ranger will also decide whether or not to allow livestock graing on three recently acquired parcels and one vacant grazing unit, and if so, under what conditions.

Public Comment

Comments and input regarding the proposal were requested from the public, other groups and agencies via direct mailing on March 21, 2005. Additional comments were solicited during August and September 2005 via public notices and an additional direct mailing. The Draft EIS was issued for a 45-day public comment in July, 2006. No further formal public comment opportunities will be offered on this project.

Early Notice of Importance of Public Participation in Subsequent Environmental Review: The following was published as part of the original Notice of Intent. A draft environmental impact statement will be prepared for comment. The comment period on the draft environmental impact statement will be 45 days from the date the Environmental Protection Agency published the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1900.15, Section 21)

Dated: August 17, 2006.
Craig Bobzien,
Forest Supervisor, Black Hills National Forest.

[FR Doc. 06-7104 Filed 8-22-06; 8:45am]

BILLING CODE 3410-11-M